DEPARTMENT OF HEALTH AND HUMAN SERVICES

Administration for Children and Families

[OMB NO.: 0970-0460]

Proposed Information Collection Activity; Comment Request; Healthy Marriage and Responsible Fatherhood Performance Measures and Additional Data Collection (Part of the Fatherhood and Marriage Local Evaluation and Cross-Site (FaMLE Cross-Site) Project)—Extension

Description

Background

For decades various organizations and agencies have been developing and operating programs to strengthen families through healthy marriage and relationship education and responsible fatherhood programming. The Administration for Children and Families (ACF), Office of Family Assistance (OFA), has had administrative responsibility for federal funding of such programs since 2006 through the Healthy Marriage (HM) and Responsible Fatherhood (RF) Grant Programs. The authorizing legislation for the programs may be found in Section 403(a)(2) of the Social Security Act [1].

Extension of Current Approval

The Offices of Family Assistance (OFA) and Planning, Research and Evaluation (OPRE) in the Administration for Children and Families (ACF), U.S. Department of Health and Human Services (HHS) are proposing to extend performance measure and other data collection activities, in service to the HM and RF programs. This data collection is part of the Fatherhood and Marriage Local Evaluation and Cross-site (FaMLE Cross-site) project, whose purpose is to support high quality data collection, strengthen local evaluations, and conduct cross-site analysis for the Responsible Fatherhood and Healthy Marriage grantees. ACF is requesting comment on the following data collection, which has been ongoing under OMB #0970-0460 since 2016. There are no changes proposed to the information collection, we are only requesting an extension to continue data collection with the current grantees through 2020.

Performance measures. ACF is proposing to extend collection of a set of performance measures that are collected by all grantees. These measures collect standardized information in the following areas:

• Applicant characteristics;

• Program operations (including program characteristics and service delivery); and

• Participant outcomes:

○ Entrance survey, with four versions: (1) Healthy Marriage Program Pre-Program Survey for Adult-Focused Programs; (2) Healthy Marriage Program Pre-Program Survey for Youth-Focused Programs; (3) Responsible Fatherhood Program Pre-Program Survey for Community-Based-Fathers; and (4) Responsible Fatherhood Program Pre-Program Survey for Incarcerated Fathers.

○ Exit survey, with four versions: (1) Healthy Marriage Program Post-Program Survey for Adult-Focused Programs; (2) Healthy Marriage Program Post-Program Survey for Youth-Focused Programs; (3) Responsible Fatherhood Program Post-Program Survey for Community-Based-Fathers; and (4) Responsible Fatherhood Program Post-Program Survey for Incarcerated Fathers.

These measures were developed per extensive review of the research literature and grantees' past measures.

Grantees are required to submit data on these standardized measures on a regular basis (e.g., quarterly). In addition to the performance measures mention above, ACF proposes to extend collection for these data submissions:

• Semi-annual Performance Progress Report (PPR), with two versions: (1) Performance Progress Report for Healthy Marriage Programs, and (2) Performance Progress Report for Responsible Fatherhood Programs; and

• Quarterly Performance Report (QPR), with two versions: (1) Quarterly Performance Progress Report for Healthy Marriage Programs, and (2) Quarterly Performance Progress Report for Responsible Fatherhood Programs.

A management information system has been implemented which improves efficiency and the quality of data, and makes reporting easier.

Additional data collection. We also seek to extend the approval to collect information from a sub-set of grantees on how they designed and implemented their programs (information on outcomes associated with programs will also be assessed), per the following protocols:

• Staff interview protocol on program design (will be collected from about half of all grantees);

• Staff interview protocols on program implementation (will be collected from about 10 grantees); and

• Program participant focus group protocol (will be conducted with about 10 grantees).

Respondents: Responsible Fatherhood and Healthy Marriage Program grantees (e.g., grantee staff) and program applicants and participants—participants are called “clients.”

Annual Burden Estimates
Instrument | Respondent | Total number of respondents | Annual number of respondents | Number of responses per respondent | Average burden hours per response | Annual burden hours
Data Collection by Grantees (DCS, or Data Collected by Sites)
Instrument DCS-1: Applicant characteristics | Program applicants Program staff | 265,838 360 | 87,504 360 | 1 243 | 0.25 0.10 | 21,876 8,750
Instrument DCS-2: Grantee program operations | Program staff | 120 | 120 | 1 | 0.75 | 90
Instrument DCS-3: Service receipt in MIS | Program staff | 1,540 | 1,540 | 156 | 0.50 | 39,916
Instrument DCS-4: Entrance and Exit Surveys | Program clients (Entrance Survey; 4 versions) | 239,493 | 79,831 | 1 | 0.42 | 33,529
| Program clients (Exit Survey; 4 versions) | 132,087 | 44,029 | 1 | 0.42 | 18,492
| Program staff (Entrance and Exit surveys on paper) | 60 | 20 | 1,285 | 0.30 | 7,712
Instrument DCS-5: Semi-annual report | Program staff (2 versions) | 120 | 120 | 2 | 3 | 720
Instrument DCS-6: Quarterly performance report | Program staff (2 versions) | 120 | 120 | 2 | 1 | 240
Data Collection by the Contractor (DCI, or Data collected by the Contractor Itself)
Instrument DCI-1: Topic guide on program design | Program staff | 60 | 20 | 1 | 1 | 20
Instrument DCI-2: Topic guide on program implementation | Program staff | 300 | 100 | 1 | 1 | 100
Instrument DCI-3: Focus group protocol | Program clients | 801 | 267 | 1 | 1.50 | 401

Estimated Total Annual Burden Hours: 131,846.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Reference

[1] http://www.ssa.gov/OP_Home/ssact/title04/0403.htm.

Mary Jones,
ACF/OPRE Certifying Officer.

[FR Doc. 2018-02494 Filed 2-7-18; 8:45 am]

BILLING CODE 4184-35-P